DEPARTMENT OF COMMERCE

International Trade Administration

[A-570-892]

Carbazole Violet Pigment 23 From the People's Republic of China: Preliminary Intent To Rescind Antidumping Duty Administrative Review

AGENCY: Import Administration, International Trade Administration, Department of Commerce.

SUMMARY: In response to a request by Toyo Ink Mfg. America, LLC and Toyo Ink Mfg. Co., Ltd. (collectively, Toyo), the Department of Commerce (the Department) is conducting an administrative review of the antidumping duty order on carbazole violet pigment 23 (CVP 23) from the People's Republic of China (PRC). This administrative review covers only Toyo. The period of review (POR) is December 1, 2009, through November 30, 2010.

Toyo subsequently provided a certification of no sales. As the Department's review of U.S. Customs and Border Protection (CBP) import data confirms that there were no reviewable entries of the subject merchandise during the POR, we preliminarily determine that Toyo did not have reviewable entries during the POR. Therefore, because there are no entries on which to assess duties, the Department preliminarily determines to rescind this review. Interested parties are invited to comment on these preliminary results.

DATES: Effective Date: September 6, 2011.

FOR FURTHER INFORMATION CONTACT: Mark Flessner or Robert James, AD/CVD Operations, Office 7, Import Administration, International Trade Administration, U.S. Department of Commerce, 14th Street and Constitution Avenue, NW., Washington, DC 20230; telephone: (202) 482-6312 or (202) 482-0469, respectively.

SUPPLEMENTARY INFORMATION:

Background

On December 29, 2004, the Department published the antidumping duty order on CVP 23 from the PRC. See Antidumping Duty Order: Carbazole Violet Pigment 23 From the People's Republic of China, 69 FR 77987 (December 29, 2004) (the Order). On December 1, 2010, the Department published a notice of opportunity to request an administrative review of the Order. See Antidumping or Countervailing Duty Order, Finding, or Suspended Investigation; Opportunity To Request Administrative Review, 75 FR 74682 (December 1, 2010). On January 3, 2011, the Department received a timely request for administrative review from Toyo. Toyo referenced the formal scope inquiry regarding CVP 23 which the Department was conducting at the time, stating that it would withdraw its request if the Department were to find in the scope proceeding that crude CVP 23 from the PRC finished in Japan did not fall within the scope of the Order. See letter from Mark E. Pardo to the Secretary of Commerce entitled “Request for Administrative Review: Carbazole Violet 23 Pigment from the People's Republic of China (POR: 12/1/2009-11/30/2010)” dated January 3, 2011. See also memorandum from Deborah Scott to the file entitled, “Memorandum Placing the Preliminary Affirmative Scope Ruling on Carbazole Violet Pigment 23 from The People's Republic of China and India on the Record,” dated August 9, 2011.

On January 28, 2011, the Department initiated an administrative review of the Order. See Initiation of Antidumping and Countervailing Duty Administrative Reviews, 76 FR 5137 (January 28, 2011).

Also on January 28, 2011, the Department requested that Toyo demonstrate that CBP had suspended at least one Toyo entry of CVP 23 finished in Japan from crude CVP 23 made in the PRC. See the Department's letter to Toyo, dated January 28, 2011.

On February 7, 2011, Toyo responded that some of its POR entries of CVP 23 remained unliquidated, but not necessarily suspended, under 19 U.S.C. 1404(a) and (b). In addition, Toyo maintained that these entries would not be affected by the Department's scope inquiry. Toyo also argued that, pursuant to 19 CFR 351.225(l), antidumping duties cannot be assessed on its entries unless suspension of liquidation has already been ordered on those entries. See letter from Toyo to the Secretary of Commerce entitled “Administrative Review of the Antidumping Order on Carbazole Violet 23 Pigment from the People's Republic of China; Response of Toyo Ink Mfg. Co., Ltd. To Questionnaire of January 28, 2011” dated February 7, 2011.

The Department conducted a CBP data query which confirmed that there were no reviewable entries of the subject merchandise during the period covered by this administrative review.

On March 24, 2011, Toyo timely submitted a notice of no sales.¹ See letter from Toyo to the Secretary of Commerce entitled “Administrative Review of the Antidumping Order on Carbazole Violet 23 Pigment from the People's Republic of China; Toyo Ink Mfg. Co., Ltd.” dated March 24, 2011.

¹ Toyo clarified that, by its claim of “no sales,” it claimed to have made no subject sales.

Scope of the Order

The merchandise covered by this order is carbazole violet pigment 23 identified as Color Index No. 51319 and Chemical Abstract No. 6358-30-1, with the chemical name of diindolo [3,2-b:3',2'-m] triphenodioxazine, 8,18-dichloro-5, 15-diethy-5,15-dihydro-, and molecular formula of C 34 H 22 C l2 N 4 O 2.² The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of the order is dispositive.

² The brackets do not indicate “business proprietary information” but rather are part of the chemical formula.

Preliminary Intent To Rescind the Administrative Review

Under 19 CFR 351.213(d)(3), “{t}he Secretary may rescind an administrative review, in whole or only with respect to a particular exporter or producer, if the Secretary concludes that, during the period covered by the review, there were no entries, exports, or sales of the subject merchandise, as the case may be.” See 19 CFR 351.213(d)(3).

On March 24, 2011, after having first reported unliquidated (but not necessarily suspended) entries during the POR, Toyo timely claimed that it made no sales of subject merchandise during the POR. See letter from Toyo to the Secretary of Commerce entitled “Administrative Review of the Antidumping Order on Carbazole Violet 23 Pigment from the People's Republic of China; Toyo Ink Mfg. Co., Ltd.” dated March 24, 2011; see also letter from Toyo to the Secretary of Commerce entitled “Administrative Review of the Antidumping Order on Carbazole Violet 23 Pigment from the People's Republic of China; Response of Toyo Ink Mfg. Co., Ltd. To Questionnaire of January 28, 2011” dated February 7, 2011.

The Department's CBP data query confirmed, and we preliminarily conclude, that there were no reviewable entries of the subject merchandise during the period covered by this administrative review. We received no other requests for review of the Order for this POR. Therefore, in accordance with 19 CFR 351.213(d)(3), we preliminarily determine to rescind this review.

Comments

Interested parties are invited to comment on these preliminary results and may submit case briefs and/or written comments within 30 days of the date of publication of this notice, unless otherwise notified by the Department. See 19 CFR 351.309(c)(ii). Rebuttal briefs, limited to issues raised in the case briefs, will be due five days later, pursuant to 19 CFR 351.309(d). Parties who submit case or rebuttal briefs in these proceedings are requested to submit with each argument: (1) A statement of the issue; and (2) a brief summary of the argument. Parties are requested to provide a summary of the arguments not to exceed five pages and a table of statutes, regulations, and cases cited. Additionally, parties are requested to provide their case and rebuttal briefs in electronic format (preferably in Microsoft Word).

Interested parties who wish to request a hearing, or to participate if one is requested, must submit a written request to the Assistant Secretary for Import Administration within 30 days of the date of publication of this notice. Requests should contain: (1) The party's name, address, and telephone number; (2) the number of participants; and (3) a list of issues to be discussed. See 19 CFR 351.310(c). Issues raised in the hearing will be limited to those raised in case and rebuttal briefs. The Department will issue the final results of this administrative review, including the results of its analysis of issues raised in any such written briefs, not later than 120 days after these preliminary results are issued, unless the final results are extended. See 19 CFR 351.213(h).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these preliminary results in accordance with sections 751(a)(2)(B) and 777(i) of the Tariff Act of 1930, as amended, and 19 CFR 351.213(h) and 351.221(b)(4).

Dated: August 29, 2011.
Ronald K. Lorentzen,
Deputy Assistant Secretary for Import Administration.

[FR Doc. 2011-22744 Filed 9-2-11; 8:45 am]

BILLING CODE 3510-DS-P